DEPARTMENT OF ENERGY

Federal Energy Regulatory Commission

[Project No. 2426-235]

California Department of Water Resources & Los Angeles Department of Water and Power; Notice of Intent To Prepare an Environmental Impact Statement for the South State Water Project Hydroelectric Project, Schedule for Environmental Review, and Request for Comments

The staff of the Federal Energy Regulatory Commission (FERC or Commission) will prepare draft and final environmental impact statements (EIS) to evaluate potential environmental impacts of continued operation and maintenance of the proposed South State Water Project Hydroelectric Project (South SWP Project; FERC No. 2426). The South SWP Project is located on the West Branch of the California Aqueduct (non-project) in Los Angeles County, California.¹ The California Aqueduct and the South SWP Hydroelectric Project are components of the larger State Water Project (SWP), an approximately 705-mile-long water storage and delivery system of reservoirs, aqueducts, power plants, and pumping plants, which distributes water collected from rivers in northern California to the Central Valley and Southern California for drinking water, industrial use, and irrigation. The Commission will use this EIS in its decision-making process in accordance with the National Environmental Policy Act (NEPA). The schedule for preparing the EIS is discussed in the Schedule for Environmental Review section of this notice.

¹ For tracking purposes under the National Environmental Policy Act, the unique identification number for documents relating to this environmental review is EISX-019-20-000-1745337097.

As part of the NEPA review process, the Commission takes into account concerns the public may have about proposals and the environmental impacts that could result whenever it considers the issuance of a license. This gathering of public input is referred to as “scoping.” On September 30, 2016, Commission staff issued Scoping Document 1, initiating the scoping process for the project. Commission staff conducted an environmental site visit open to the public on October 25, 2016, and held two public scoping meetings. Two scoping meetings were held in Valencia, California on October 26, 2016. A court reporter recorded oral comments made during the scoping meetings. On January 13, 2017, Commission staff issued a revised scoping document (Scoping Document 2) based on the comments received during the scoping comment period, which ended November 29, 2016. Scoping Document 2 describes the project, project alternatives, and the current view of anticipated environmental effects that will be addressed in the EIS.

In accordance with the Commission's regulations, on December 2, 2020, Commission staff issued a notice that the project was ready for environmental analysis and soliciting comments, recommendations, terms and conditions, and prescriptions (REA Notice). The comment period for the REA Notice closed on January 31, 2021. Based on the information in the record, including comments filed during scoping and in response to the REA Notice, staff has determined that licensing the project may constitute a major federal action significantly affecting the quality of the human environment. Therefore, Commission staff will prepare a draft and final EIS for the proposed South SWP Project, which will address the concerns raised during prior comment periods and comments received in response to this notice.

By this notice, the Commission requests any additional comments on the scope of issues to address in the EIS, including comments on potential alternatives and impacts, and any relevant information, studies, or analyses of any kind concerning impacts affecting the quality of the human environment. If you previously submitted comments and recommendations to the Commission, you do not need to file those comments and recommendations again. To ensure that your comments are timely and properly recorded, please submit your comments so that the Commission receives them in Washington, DC on or before 5:00 p.m. Eastern Time on May 30, 2025.

Public Participation

There are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket number (P-2426-235) on your letter. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852.

Additionally, the Commission offers a free service called eSubscription. This service provides automatic notification of filings made to subscribed project dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Summary of the South SWP Project

On January 30, 2020, the California Department of Water Resources (DWR) and the Los Angeles Department of Water and Power (LADWP) (co-applicants) filed an application for a new license with the Commission to continue to operate and maintain the existing 1,350-megawatt (MW) South SWP Project. The project occupies 2,807.28 acres of federal land, including 2,790.02 acres within the Angeles National Forest of Los Padres National Forest administered by U.S. Department of Agriculture, Forest Service (Forest Service), and 17.26 acres administered by the U.S. Department of the Interior, Bureau of Land Management (BLM).

Existing Project Facilities

The South SWP Project consists of two developments—DWR's Warne Development (upstream) and LADWP's Castaic Development (downstream).² The project generates an average of 824,803 megawatt-hours of energy annually.³

² The project's remaining development, Devil Canyon, is located along the East Branch of the California Aqueduct and is currently being relicensed as a separate project (Devil Canyon Project No. 14797).

³ DWR and LADWP's average annual generation is for the period from calendar years 2007 through 2017.

Warne Development

The Warne Development consists of the following existing facilities: (1) a 15-foot-high embankment impounding the 288-acre Quail Lake with a maximum capacity of 7,583 acre-feet at normal maximum water surface elevation (NMWSE) of 3,325 feet; (2) the Quail Lake outlet consisting of a 12-foot by 12-foot reinforced concrete double box with four 6-foot by 12-foot remotely controlled slide gates, a service bay, and outlet transition (2) the 2-mile-long, concrete-lined Lower Quail canal with a maximum flow capacity of 3,129 cubic feet per second (cfs), which along with Quail Lake serves as the forebay to the powerplant; (3) the 350-foot-long, 50-foot-high Peace Valley pipeline intake embankment and intake structure located at the downstream end of Lower Quail canal that conveys water to the Peace Valley pipeline; (4) the 12-foot-diameter, 5.5-mile-long Peace Valley pipeline located entirely underground and extending to the penstock; (5) the 78-inch-diameter Gorman bypass channel extending 5.9 miles from the Lower Quail canal to Pyramid Lake serves to divert flows exceeding the pipeline's capacity or during a pipeline outage; (6) a penstock bifurcating into two 8-foot-diameter steel branches with a combined maximum capacity of 1,564 cfs; (7) the Warne powerplant located at the northern (upstream) end of Pyramid Lake at the terminus of the Peace Valley pipeline, with an installed capacity of 74.29 MW and housing two 38.25-MW Pelton-type turbines each connected to a three-phase generator; (8) a switchyard adjacent to the powerplant; (8) the 2.95-mile-long, single-circuit, 220-kilovolt (kV) Warne transmission line; (9) the Quail Lake fishing access path and day use area; and (10) appurtenant facilities.

Castaic Development

The Castaic Development consists of the following existing facilities: (1) the 1,269-acre Pyramid Lake, with a storage capacity of 161,375 acre-feet impounded by the 1,090-foot-long, 400-foot-high Pyramid Dam with a crest elevation at 2,606 feet; (2) a controlled service spillway with a flow capacity of 17,000 cfs; (3) an emergency, uncontrolled spillway with a spill capacity of 148,900 cfs; (4) a 15-foot-diameter, 1,350-foot-long, low-level outlet tunnel lined with concrete with a flow capacity of 1,000 cfs used for downstream releases to Piru Creek; (5) the 30-foot-diameter, 7.2-mile-long Angeles tunnel with a flow capacity of 18,400 cfs; (6) the 120-foot-diameter, 383-foot-tall Angeles tunnel surge chamber connected to the Angeles tunnel with a 108-foot-long junction structure with a 28-foot-diameter riser; (7) the Castaic penstock located immediately downstream of the south portal of the Angeles tunnel that consists of: (a) a double trifurcation with shutoff valves on each trifurcation branch, (b) six 2,400-foot-long steel penstocks ranging in diameter from 9 feet to 13.5 feet, and (c) a 1,900-foot-long steel penstock ranging in diameter from 7 feet to 9 feet branching from a Y-connection between the Angeles tunnel portal and the main trifurcation; (8) the Castaic powerplant located on the upstream end of Elderberry Forebay, which is a pumping-generating powerhouse containing six reversible Francis-type pump-turbine units each with a dependable capacity of 205.35 MW; (9) one Pelton-type pump starting turbine unit, housed in a separate building, used solely to start the six main units and is not used for power generation; (10) a fenced switchyard adjacent to the powerhouse; (11) the 1,935-foot-long, 179-foot-high zoned earthfill Elderberry Forebay dam with a 25-foot-wide crest at elevation 1,550 feet; (12) the 496-acre Elderberry Forebay that serves as an afterbay with a gross storage capacity of 31,196 acre-feet at an elevation of 1,540 feet; (13) an uncontrolled, emergency spillway with an overflow weir crest at elevation 1,540 feet and a spill capacity of at least 12,000 cfs connecting the Elderberry Forebay to the non-project Castaic Lake located immediately downstream of the forebay; (14) the Elderberry Forebay outlet, with a capacity of 17,000 cfs at 1,540-feet elevation, consisting of both high-level and low-level outlets equipped with slide gates facilities in a tower upstream of the dam; (15) the Storm Bypass Channel located on Castaic Creek above Elderberry Forebay with a series of three check-dam basins with a total area of about 21 acres; (16) the 11.4 mile-long, 230-kV Castaic transmission line connecting the switchyard to the Haskell Junction substation; (17) recreation facilities include the Emigrant Landing Day Use Area, Vista Del Lago Visitor Center, Vaquero Day Use Area, Spanish Point Boat-in Picnic Area, Serrano Boat-in Picnic Area, Bear Trap Boat-in Picnic Area, Yellow Bar Boat-in Picnic Area, and Los Alamos Campground. There are project-related roads and trails associated with these facilities.

Applicants' Proposal

The co-applicants propose to continue operating the project in the same manner as it is currently operated. The co-applicants also propose to make the following existing facilities part of the license for the South SWP Project: (1) the Quail detention embankment, located adjacent to the Peace Valley pipeline intake embankment along the northwest portion of the Lower Quail canal, which serves as a flood-management structure to attenuate waters from Quail Lake or the Lower Quail canal and to protect Interstate 5; (2) 99 project road segments totaling 55.4 miles; and (3) the streamflow gage located on Piru Creek below Pyramid Lake near Gorman, CA. Additionally, the co-applicants propose to remove the Warne transmission line from the license because it is owned and operated by SCE as part of SCE's Pardee-Pastoria-Warne 220-kV transmission line and because the transmission line is part of the interconnected electric grid the co-applicants believe it is not within the Commission's licensing jurisdiction. The co-applicants state the transmission line would continue to function as it has historically.

The purpose of the project is to continue to provide a source of hydroelectric power and flood control and serve as a water supply for domestic and irrigation purposes. Therefore, under the provisions of the Federal Power Act (FPA), the Commission must decide whether to issue a license to DWR and LADWP for the project and what conditions should be placed on any license issued.

The NEPA Process and the EIS

The draft and final EIS issued by the Commission will discuss impacts that could occur because of the proposed project under the following relevant general resource areas:

• geology and soils resources

• aquatic resources

• terrestrial resources

• federally threatened and endangered species

• recreation, land use, and aesthetics

• cultural resources

Some of the potential effects include: (1) erosion and sedimentation; (2) the timing and magnitude of operational flows in Piru Creek on water quality and aquatic habitat, including associated effects on threatened and endangered species and riparian habitat; (3) toxic algal blooms in Pyramid Lake and the spread of non-native, invasive mussel species on aquatic communities and project facilities; (4) the spread of non-native, invasive terrestrial plant species on terrestrial communities; (5) disturbance of vegetation and suitable habitat for special-status wildlife species; including federally listed plant species; (6) potential effects on recreation facilities and aesthetics; (7) public safety resulting from potential project-related wildfires; and (8) cultural resources.

Commission staff will also make recommendations on how to lessen or avoid impacts on the various resource areas. Your comments will help Commission staff focus its analysis on the issues that may have a significant effect on the human environment.

The draft and final EIS will present Commission staff's independent analysis of the issues. On September 30, 2016, Commission staff issued a notice of the co-applicant's intent to file a relicense application for the project, which also invited agencies wishing to cooperate in the preparation of the environmental document. No agencies filed requests for cooperating status. A draft EIS will be issued for public comment and circulated for review by all interested parties. Commission staff will consider all timely comments received during the comment period on the draft EIS and revise the document, as necessary, before issuing a final EIS. The draft and final EIS will be available in electronic format in the public record through eLibrary.⁴ If eSubscribed, you will receive an instant email notification when the environmental document is issued.

⁴ For instructions on connecting to eLibrary, refer to the Additional Information section of this notice this notice.

Alternatives Under Consideration

As part of our review in the EIS, the Commission will consider a range of reasonable alternatives that are technically and economically feasible and meet the purpose and need for the proposed action. Alternatives that do not meet these requirements will be summarized and dismissed from further consideration in the EIS document. In addition to the proposed action, staff will consider a no-action alternative. We are also considering an alternative to the proposed action that potentially meets the above criteria: the applicants' proposed action with staff modifications, including any mandatory conditions (i.e., the staff alternative with mandatory conditions).

With this notice, we ask commenters to identify other potential reasonable alternatives for consideration. The alternatives considered may be expanded based on the comments received, provided they meet the criteria described above.

Schedule for Environmental Review

This Notice of Intent identifies Commission staff's planned schedule for completion of the final EIS for the project, which is based on an issuance of a draft EIS in August 2025, opening a 45-day public comment period. All comments filed will be reviewed by staff and considered in the Commission's final decision on the proceeding.

Issuance of Notice of Availability of the final EIS March 31, 2026

This notice identifies the Commission's anticipated schedule for issuance of a license order for the project, which serves as the Commission's record of decision. We currently anticipate issuing a license order for the project no later than:

Issuance of the License Order July 16, 2026

If a schedule change becomes necessary, an additional notice will be provided so that the relevant agencies and interested stakeholders are kept informed of the project's progress.

Permits and Authorizations

The table below lists the anticipated permits and authorizations for the project required under federal law. This list may not be all-inclusive and does not preclude any permit or authorization if it is not listed here. Agencies with jurisdiction by law and/or special expertise may formally cooperate in the preparation of the Commission's EIS and may adopt the EIS to satisfy its NEPA responsibilities related to this project.

Agency | Permit or authorization
FERC | Non-Federal Hydropower License.
BLM | Right-of-Way Permit; Resource Management Plan Amendment; Mandatory Conditioning Authority under Section 4(e) of the FPA.
Forest Service | Mandatory Conditioning Authority under Section 4(e) of the FPA.
National Marine Fisheries Service | Reservation of Authority to Prescribe Fishways under Section 18 of the FPA.
U.S. Fish and Wildlife Service | Consultation under Section 7 of the Endangered Species Act.
California State Historic Preservation Office | Consultation under Section 106 of the National Historic Preservation Act.
California State Water Resources Control Board | Clean Water Act Section 401 Water Quality Certification.

Additional Information

Additional information about the project is available on the FERC website at www.ferc.gov using the eLibrary link. Click on the eLibrary link, click on “General Search” and enter the Docket No. P-2426 in the “Docket Number” field. Be sure you have selected an appropriate date range. For assistance, please contact FERC Online Support at FercOnlineSupport@ferc.gov or (866) 208-3676, or for TTY, contact (202) 502-8659.

Any questions regarding this notice may be directed to Quinn Emmering, the FERC relicensing coordinator for the South SWP Project, at (202) 502-6382 or Quinn.Emmering@ferc.gov.

Dated: April 30, 2025.
Debbie-Anne A. Reese,
Secretary.

[FR Doc. 2025-07875 Filed 5-5-25; 8:45 am]

BILLING CODE 6717-01-P